DEPARTMENT OF TRANSPORTATION

Federal Aviation Administration

Notice of Passenger Facility Charge (PFC) Approvals and Disapprovals.

AGENCY: Federal Aviation Administration (FAA), DOT.

ACTION: Monthly Notice of PFC Approvals and Disapprovals. In September 2004, there were three applications approved. This notice also includes information on two applications, approved in August 2004, inadvertently left off the August 2004 notice. Additionally, 15 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Charlotte, North Carolina.

Application Number: 04-01-C-00-CLT.

Application Type: Impose and use a PFC.

PFC Level: $3.00.

Total PFC Revenue Approved in this Decision: $514,701,943.

Earliest Charge Effective Date: November 1, 2004.

Estimated Charge Expiration Date: December 1, 2018.

Class of Air Carriers not Required to Collect PFC's: Air taxi/commercial operators.

Determination: Approved. Based on information contained in the public agency's application, the FAA has determined that the approved class accounts for less than 1 percent of the total annual enplanements at Charlotte/Douglas International Airport.

Brief Description of Projects Approved for Collection and Use:

Third parallel runway.

Overlay runway 18L/36R.

Runway 18L safety area improvements.

Rehabilitate runway 18R/36L

Runway 23 safety area improvements.

Reconstruct taxiway C.

Ramp E expansion.

Construct taxiway AA.

Storm drain rehabilitation.

East airfield lighting vault.

Additional aircraft rescue and firefighting facility.

Taxiway M rehabilitation.

Noise compatibility program update.

Federal inspection station.

Terminal building renovations.

Terminal expansion—west.

Additional concourse D expansion.

Concourse E improvements.

Dedicated roadway projects.

1997 master plan land.

1987 Part 150 program mitigation implementation.

1997 Part 150.

Concourse D expansion.

Concourse E construction.

Concourse E apron construction.

Terminal building expansion.

Construct cargo apron.

Construct taxiways L and U.

Taxiway signage.

Security access control system upgrade.

Runway 36R extension site preparation.

Passenger lift device.

Airfield lighting.

Runway 36R extension.

Reseal taxiways E and B.

Construct high-speed exit taxiways.

Overlay runway 5/23.

Construct taxiway D2.

Construct taxiway F.

Master plan.

Environmental planning.

Construct common use apron (phase II).

Construct taxiway G.

Archaeological survey.

South terminal expansion.

PFC application no. 1 development cost.

PFC application no. 1 administration cost.

Brief Description of Project Approved for Collection: Aircraft deicing facility.

Decision Date: August 23, 2004.

FOR FURTHER INFORMATION CONTACT: Tracie D. Kleine, Atlanta Airports District Office, (404) 305-7148.

Public Agency: City of Sioux City, Iowa.

Application Number: 04-04-C-00-SUX.

Application Type: Impose and use a PFC.

PFC Level: $4.50.

Total PFC Revenue Approved in This Decision: $258,095.

Earliest Charge Effective Date: November 1, 2004.

Estimated Charge Expiration Date: May 1, 2006.

Classes of Air Carriers Not Required to Collect PFC's: None.

Brief Description of Projects Approved for Collection and Use:

Rehabilitation of taxiway Bravo.

Reconstruction of taxiway Charlie.

Reconstruction of the air carrier ramp.

Update airport master plan.

Replacement of snow plow no. 29.

Reconstruction of taxiway Alpha south.

Reconstruction of taxiway Echo.

Decision Date: August 27, 2004.

FOR FURTHER INFORMATION CONTACT: Lorna Sandridge, Central Region Airports Division, (816) 329-2641.

Public Agency: County of Routt, Hayden, Colorado.

Application Number: 04-06-C-00-HDN.

Application Type: Impose and use a PFC.

PFC Level: $4.50.

Total PFC Revenue Approved in this Decision: $1,051,057.

Earliest Charge Effective Date: August 1, 2005.

Estimated Charge Expiration Date: September 1, 2008.

Classes of Air Carriers Not Required To Collect PFC's: None.

Brief Description of Projects Approved for Collection and Use:

Commercial terminal expansion/modification (phase I).

Commercial terminal expansion/modification with associated access road (phases II and III design).

Commercial apron rehabilitation.

Security badging upgrade.

Commercial apron expansion (design).

Decision Date: September 15, 2004.

FOR FURTHER INFORMATION CONTACT: Christopher Schaffer, Denver Airports District Office, (303) 342-1258.

Public Agency: City of Austin, TX.

Application Number: 04-05-C-00-AUS.

Application Type: Impose and use a PFC.

PFC Level: $4.50.

Total PFC Revenue Approved in this Decision: $4,125,000.

Earliest Charge Effective Date: January 1, 2020.

Estimated Charge Expiration Date: May 1, 2020.

Class of Air Carriers Not Required to Collect PFC's: Non-scheduled on-demand air carriers (formerly called the air taxi/commercial operators) that file FAA Form 1800-31.

Determination: Approved. Based on information contained in the public agency's application, the FAA has determined that the approved class accounts for less than 1 percent of the total annual enplanements at Austin-Bergstrom International Airport.

Brief Description of Project Approved for Collection and Use: Explosive detection system installation and associated baggage handling system.

Decision Date: September 21, 2004.

FOR FURTHER INFORMATION CONTACT: G. Thomas Wade, Southwest Region Airports Division, (817) 222-5613.

Public Agency: Northwest Alabama Regional Airport Authority, Muscle Shoals, AL.

Application Number: 04-04-C-00-MSL.

Application Type: Impose and use a PFC.

PFC Level: $3.00.

Total PFC Revenue Approved in this Decision: $57,355.

Earliest Charge Effective Date: December 1, 2004.

Estimated Charge Expiration Date: April 1, 2009.

Class of Air Carriers Not Required to Collect PFC's: None.

Brief Description of Project Approved for Collection and Use:

Construct taxiway E, phases II and III.

Purchase passenger life device.

Commuter passenger walkway.

Taxiway B Extension to runway 18.

Rehabilitate runway 11/29 and associated taxiway A.

Decision Date: September 23, 2004.

FOR FURTHER INFORMATION CONTACT: Roderick T. Nicholson, Jackson Airports District Office, (601) 664-9884.

Amendments to PFC Approvals
Amendment no. city, state | Amendment approved date | Original approved net PFC revenue | Amended approved net PFC revenue | Original estimated charge exp. date | Amended estimated charge exp. date
00-03-C-01-MCI, Kansas City, MO | 07/20/04 | $99,645,586 | $63,402,166 | 05/01/13 | 10/01/17
99-01-C-04-ACY, Atlantic City, NJ | 08/04/04 | 9,578,258 | 9,125,209 | 09/01/05 | 07/01/05
99-01-I-01-BFF, Scottsbluff, NE | 09/13/04 | 108,000 | 0 | 03/01/03 | 03/01/03
04-02-C-01-BFF, Scottsbluff, NE | 09/13/04 | 112,700 | 1,299,534 | 04/01/07 | 07/01/24
97-03-C-02-ONT, Ontario, CA | 09/21/04 | 80,680,000 | 92,680,000 | 09/01/05 | 07/01/05
*97-02-C-02-FAT, Fresno, CA | 09/22/04 | 54,531,000 | 54,531,000 | 07/01/30 | 01/01/20
04-04-C-01-IYK, Inyokern, CA | 09/22/04 | 36,183 | 51,000 | 10/01/04 | 10/01/04
95-01-C-01-MSS, Massena, NY | 09/22/04 | 200,079 | 163,429 | 11/01/05 | 11/01/05
02-05-C-04-BGM, Binghamton, NY | 09/27/04 | 4,567,151 | 4,635,407 | 02/01/05 | 07/01/05
03-06-C-01-BGM, Binghamton, NY | 09/27/04 | 7,996 | 7,996 | 03/01/05 | 08/01/05
01-01-C-01-PIT, Pittsburgh, PA | 09/27/04 | 119,803,191 | 94,845,514 | 10/01/06 | 04/01/07
03-02-U-01-PIT, Pittsburgh, PA | 09/27/04 | NA | NA | 10/01/06 | 04/01/07
95-01-C-01-OAJ, Jacksonville, NC | 09/28/04 | 674,041 | 208,878 | 04/01/97 | 04/01/97
*01-01-C-02-PIT, Pittsburgh, PA | 09/29/04 | 94,845,514 | 94,845,514 | 04/01/07 | 10/01/06
03-02-U-01-PIT, Pittsburgh, PA | 09/29/04 | NA | NA | 04/01/07 | 10/01/06
Note: The amendments denoted by an asterisk (*) include a change to the PFC level charged from $3.00 per enplaned passenger to $4.50 per enplaned passenger. For Fresno, CA and Pittsburgh, PA, this change is effective on December 1, 2004.

Issued in Washington, DC, on October 18, 2004.
JoAnn Horne,
Manager, Financial Analysis and Passenger Facility Charge Branch.

[FR Doc. 04-23673 Filed 10-21-04; 8:45 am]

BILLING CODE 4910-13-M